DEPARTMENT OF TRANSPORTATION

Federal Highway Administration

Notice of Final Federal Agency Actions on the Mid-States Corridor Project in Indiana

AGENCY: Federal Highway Administration (FHWA), DOT.

ACTION: Notice of limitation on claims for judicial review of actions by FHWA and other Federal agencies.

SUMMARY: This notice announces final actions taken by FHWA and the United States Fish and Wildlife Service (USFWS) relating to the proposed Mid-States Corridor Project in southern Indiana. The public is advised that FHWA issued a Record of Decision (ROD) which concludes the Tier 1 Mid-States Corridor Project studies. The ROD is combined with the Mid-States Corridor Project Tier 1 Final Environmental Impact Statement (EIS) prepared by FHWA and the Indiana Department of Transportation (INDOT).

DATES: By this notice, FHWA is advising the public of final agency actions subject to 23 U.S.C. 139(l)(1). A claim seeking judicial review of the Federal agency actions on the highway project will be barred unless the claim is filed on or before February 12, 2024. If the Federal law that authorizes judicial review of a claim provides a time period of less than 150 days for filing such claim, then that shorter time period still applies.

FOR FURTHER INFORMATION CONTACT: Mr. Jermaine R. Hannon, Division Administrator, Federal Highway Administration, 575 North Pennsylvania Street, Room 254, Indianapolis, IN 46204-1576; telephone: (317) 226-7475; email: jermaine.hannon@dot.gov. For the USFWS: Ms. Susan E. Cooper, Field Supervisor, Indiana Field Office, USFWS, 620 South Walker Street, Bloomington, IN 47403-2121; telephone: (812) 334-4261; email: Susan_E_Cooper@fws.gov. Normal business hours for the USFWS Indiana Field Office are: 8 a.m. to 4:30 p.m., Eastern Time. For INDOT, you may contact Laura Hilden, Director—Environmental Services, 100 North Senate Avenue, Room N758-ES, Indianapolis, IN 46204; telephone: (317) 552-9692; email: lhilden@indot.in.gov. Normal business hours for INDOT are: 8:00 a.m. to 4:30 p.m., Eastern Time.

SUPPLEMENTARY INFORMATION: Notice is hereby given that FHWA has approved the Tier 1 Final Environmental Impact Statement (FEIS) for the Mid-States Corridor Project and issued the combined FEIS/ROD on September 15, 2023. The FHWA used a tiered EIS for the Mid-States Corridor Project in accordance with the National Environmental Policy Act (NEPA); the Council on Environmental Quality regulations implementing NEPA (40 CFR parts 1500 through 1508), FHWA's regulations implementing NEPA (23 CFR part 771), and Section 4(f) (23 CFR part 774). The Tier 1 FEIS included in-depth analysis of environmental, transportation, and economic impacts and estimated project costs. The Tier 1 EIS also analyzed a reasonable range of corridor alternatives, which led to identification of Refined Alternative P as the selected alternative. The FHWA has concurred in that recommendation.

The Tier 1 FEIS and ROD established Sections of Independent Utility (SIUs) for the project. A Tier 2 NEPA study will be conducted for each SIU prior to construction and will include identification of specific alignments and alternatives. The Tier 2 studies will be more closely tailored to address transportation needs within the SIUs, and evaluation of alternatives will include consideration of the social, economic, traffic, cost, and environmental impacts among other factors.

This FEIS and ROD identified Refined Alternative P as the Selected Alternative. Decisions in the FEIS and ROD included, but were not limited to, the following:

1. Purpose and need for the project.

2. Range of alternatives for analysis.

3. Screening of alternatives and the identification of alternatives to be carried forward for more detailed analysis in the Draft Environmental Impact Statement (DEIS).

4. Identification of Alternative P as the Preferred Alternative in the DEIS.

5. Refinement to the Preferred Alternative P based on public input (Refined Preferred Alternative P).

6. Identification of Refined Preferred Alternative P as the Selected Alternative in the FEIS and ROD.

The Selected Alternative, Refined Preferred Alternative P, begins at the I-64/US 231 interchange and continues north and west to the I-69/US 231 Interchange, and includes local improvements along the existing US 231. The analysis showed that Refined Alternative P has the lowest impacts to environmental resources and the lowest cost of the three alternatives determined to meet the Purpose and Need. In response to public comments and in the interest of minimizing any potential economic impacts, Refined Alternative P contains three additional variations in the area near Loogootee, Indiana, which will be further evaluated in Tier 2 studies to determine a single alignment. Interested parties may consult the FEIS and ROD for details about each of the decisions described above and for information on other issues decided. The FEIS and ROD can be viewed and downloaded from the project website at https://midstatescorridor.com/. People unable to access the website may contact FHWA or INDOT at the addresses listed above.

This notice applies to all final Federal Agency decisions in the Mid-States Corridor Tier 1 FEIS and ROD as of the issuance date of this notice, and all laws under which such actions were taken, including but not limited to:

1. National Environmental Policy Act (NEPA) [42 U.S.C. 4321-4351].

2. Endangered Species Act [16 U.S.C. 1531-1544].

3. Fish and Wildlife Coordination Act [16 U.S.C. 661-667d].

4. Migratory Bird Treaty Act [16 U.S.C. 703-712].

5. Bald and Golden Eagle Protection Act [16 U.S.C. 688-688c].

6. Federal-Aid Highway Act [23 U.S.C. 109 and 23 U.S.C. 128].

7. Clean Air Act, 42 U.S.C. 7401-7671(q).

8. Section 4(f) of the Department of Transportation Act of 1966 [49 U.S.C. 303].

9. Section 106 of the National Historic Preservation Act of 1966, as amended [16 U.S.C. 470] and Native American Grave Protection and Repatriation Act (NAGPRA) [25 U.S.C. 3001-3013].

10. Land and Water Conservation Fund (LWCF) [16 U.S.C. 4601-4604]; Wild and Scenic Rivers Act [16 U.S.C. 1271-1287]; Safe Drinking Water Act (SDWA) [42 U.S.C. 300(f)-300(j)(6)].

11. Comprehensive Environmental Response, Compensation, and Liability Act (CERCLA) [42 U.S.C. 9601-9675]; Resource Conservation and Recovery Act (RCRA) [42 U.S.C. 6901-6992(k)].

12. Civil Rights Act of 1964 [42 U.S.C. 2000(d)-2000(d)(1)]; Uniform Relocation Assistance and Real Property Acquisition Act [42 U.S.C. 61].

13. Farmland Protection Policy Act (FPPA) [7 U.S.C. 4201-4209].

14. Noise Control Act of 1972 [42 U.S.C. 4901 et seq].

15. Clean Water Act (Section 319, Section 401, Section 402, Section 404) [22 U.S.C. 1251 et seq.].

16. Executive Order (E.O.) 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514, Protection and Enhancement of Environmental Quality; E.O. 13112 Invasive Species; E.O. 13166, Improving Access for Persons with Limited English Proficiency.

Notice is hereby given that the USFWS has taken the final agency actions within the meaning of 23 U.S.C. 139(l)(1) by issuing the following:

1. A letter dated June 29, 2023, concurring with the effects determinations in the Biological Assessment (BA) and identifying that absent new information in Tier 2 studies or significant change to the project plans, no further coordination with the USFWS is needed for the gray bat, sheepnose mussel, rough pigtoe mussel and lake sturgeon which received a “may effect, not likely to adversely affect” determination.

2. A Biological Opinion (BO) dated June 29, 2023, that the Mid-States Corridor Project would not jeopardize the continued existence of the Indiana bat, northern long eared bat, fanshell mussel, and fat pocketbook mussel.

3. A Conference Opinion (CO) dated June 29, 2023, that the Mid-States Corridor Project would not jeopardize the continued existence of the tricolored bat, little brown bat, salamander mussel and monarch butterfly.

4. The BO and CO also identified activities for Tier 2 studies. They included bat surveys, mussel surveys and anticipated mitigation activities.

5. In its June 29, 2023, letter USFWS also states that incidental take statements would be developed during Tier 2 studies, and are not made as part of this Tier 1 BO and CO.

The BA and BO/CO and other project records relating to the USFWS actions, taken pursuant to the Endangered Species Act, 16 U.S.C. 1531-1544, are available by contacting the FHWA, INDOT, or USFWS at the addresses provided above. The BA and BO/CO can be viewed in Appendices PP and QQ of the Mid-States Corridor Tier 1 FEIS, respectively.

(Catalog of Federal Domestic Assistance Program Number 20.205, Highway Planning and Construction. The regulations implementing Executive Order 12372 regarding intergovernmental consultation on Federal programs and activities apply to this program.)

Authority: 23 U.S.C. 139(l)(1).

Jermaine R. Hannon,
Division Administrator, FHWA, Indianapolis, Indiana.

[FR Doc. 2023-19810 Filed 9-14-23; 8:45 am]

BILLING CODE 4910-22-P